DEPARTMENT OF THE INTERIOR

Fish and Wildlife Service

[FWS-R7-FHC-2010-N145] [71490-1351-0000-L5]

Proposed Information Collection; OMB Control Number 1018-0070; Incidental Take of Marine Mammals During Specified Activities

AGENCY: Fish and Wildlife Service, Interior.

ACTION: Notice; request for comments.

SUMMARY: We (Fish and Wildlife Service) will ask the Office of Management and Budget (OMB) to approve the information collection (IC) described below. As required by the Paperwork Reduction Act of 1995 and as part of our continuing efforts to reduce paperwork and respondent burden, we invite the general public and other Federal agencies to take this opportunity to comment on this IC. This IC is scheduled to expire on November 30, 2010. We may not conduct or sponsor and a person is not required to respond to a collection of information unless it displays a currently valid OMB control number.

DATES: To ensure that we are able to consider your comments on this IC, we must receive them by September 20, 2010.

ADDRESSES: Send your comments on the IC to Hope Grey, Information Collection Clearance Officer, Fish and Wildlife Service, MS 222-ARLSQ, 4401 North Fairfax Drive, Arlington, VA 22203 (mail); or hope_grey@fws.gov (e-mail).

FOR FURTHER INFORMATION CONTACT: To request additional information about this IC, contact Hope Grey by mail or e-mail (see ADDRESSES) or by telephone at (703) 358-2482.

SUPPLEMENTARY INFORMATION:

I. Abstract

This revised IC combines the information collection requirements associated with specified marine mammal activities in the Beaufort Sea and Chukchi Sea and the adjacent coast of Alaska. The Office of Management and Budget approved the information collection requirements associated with oil and gas exploration activities in the Chukchi Sea and assigned OMB Control No. 1018-0139, which expires June 30, 2011. If OMB approves this combined request, we will discontinue OMB Control No. 1018-0139.

The Marine Mammal Protection Act (MMPA) of 1972, as amended (16 U.S.C. 1361 et seq.) imposed, with certain exceptions, a moratorium on the taking of marine mammals. Section 101(a)(5)(A) of the MMPA directs the Secretary of the Interior to allow, upon request by citizens of the United States, the taking of small numbers of marine mammals incidental to specified activities (other than commercial fishing) if the Secretary makes certain findings and prescribes specific regulations that, among other things, establish permissible methods of taking.

Applicants seeking to conduct activities must request a Letter of Authorization (LOA) for the specific activity and submit onsite monitoring reports and a final report of the activity to the Secretary. This is a nonform collection. Regulations at 50 CFR 18.27 outline the procedures and requirements for submitting a request. Specific regulations governing authorized activities in the Beaufort Sea are in 50 CFR 18, subpart J. Regulations governing authorized activities in the Chukchi Sea are in 50 CFR 18, subpart I. These regulations provide the applicant with a detailed description of information that we need to evaluate the proposed activity and determine whether or not to issue specific regulations and, subsequently, LOAs.

We use the information to verify the finding required to issue incidental take regulations, to decide if we should issue an LOA, and, if issued, what conditions should be in the LOA. In addition, we will analyze the information to determine impacts to the marine mammals and the availability of those marine mammals for subsistence purposes of Alaska Natives.

II. Data

OMB Control Number: 1018-0070.

Title: Incidental Take of Marine Mammals During Specified Activities, 50 CFR 18.27 and 50 CFR 18, Subparts I and J.

Service Form Numbers: None.

Type of Request: Revision of currently approved collection.

Affected Public: Oil and gas industry companies.

Respondent's Obligation: Required to obtain or retain a benefit.

Frequency of Collection: On occasion.

Number of Respondents: 25 or less.

Activity | Number of annual responses | Completion time per response | Annual burden hours
One-time application for procedural regulations | 2 | 300 hours | 600
LOA requests | 25 | 24 hours | 600
Onsite monitoring and observation reports | 150 | 1.5 hours | 225
Final monitoring report | 25 | 8 hours | 200
Totals | 202 |  | 1,625

III. Request for Comments

We invite comments concerning this IC on:

• Whether or not the collection of information is necessary, including whether or not the information will have practical utility;

• The accuracy of our estimate of the burden for this collection of information;

• Ways to enhance the quality, utility, and clarity of the information to be collected; and

• Ways to minimize the burden of the collection of information on respondents.

Comments that you submit in response to this notice are a matter of public record. We will include or summarize each comment in our request to OMB to approve this IC. Before including your address, phone number, e-mail address, or other personal identifying information in your comment, you should be aware that your entire comment, including your personal identifying information, may be made publicly available at any time. While you can ask us in your comment to withhold your personal identifying information from public review, we cannot guarantee that we will be able to do so.

Dated: July 13, 2010.
Hope Grey,
Information Collection Clearance Officer, Fish and Wildlife Service.

[FR Doc. 2010-17631 Filed 7-19-10; 8:45am]

BILLING CODE 4310-55-S